DEPARTMENT OF ENERGY

Federal Energy Regulatory Commission

[Docket No. RP02-232-001]

Great Lakes Gas Transmission Limited Partnership; Notice of Tariff Filing

June 20, 2002.

Take notice that on June 17, 2002, Great Lakes Gas Transmission Limited Partnership (Great Lakes) tendered for filing as part of its FERC Gas Tariff, Second Revised Volume No. 1, the following tariff sheets, proposed to be effective June 1, 2002:

Substitute Seventh Revised Sheet No. 45

Second Revised Sheet No. 45A

Substitute First Revised Sheet No. 55A

Substitute First Revised Sheet No. 57I

Great Lakes states that these tariff sheets are being filed to add clarifying language to its tariff sheets as directed in the Commission's May 31, 2002 Letter Order in Docket No. RP02-232-000, wherein Great Lakes had filed to (1) add generally applicable tariff provisions setting forth the conditions under which contract demand reductions or termination provisions will be made available to all customers seeking firm capacity on a non-discriminatory basis, and (2) add tariff provisions to permit negotiation of a contractual right of first refusal between Great Lakes and its shippers in instances where a regulatory right is not available.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-16127 Filed 6-25-02; 8:45 am]

BILLING CODE 6717-01-P